DEPARTMENT OF THE INTERIOR

Bureau of Land Management

[CA-310-1820-PO]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Thursday, Feb. 5, 2004 at the BLM Ukiah Field Office, 2550 North State St., Ukiah, California, and Friday, Feb. 6, 2004, at the Point Arena Lighthouse, 45500 Lighthouse Rd., Point Arena, California. On Feb. 5, the meeting begins at 10 a.m. at the Ukiah Field Office for a field tour to the Stornetta Ranch property near Point Arena. On Feb. 6, the meeting begins at 8 a.m. in the museum of the Point Arena Lighthouse. Time for public comments has been set aside for 11 a.m.

FOR FURTHER INFORMATION CONTACT: Rich Burns, Field Manager, BLM Ukiah Field Office, 2550 North State St., Ukiah, California, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics will include review of the draft management plan for the King Range National Conservation Area, an update on development of a land use plan for the California Coastal National Monument, and reports on BLM's Sustaining Working Landscapes initiative and development of a sage grouse conservation strategy. The RAC members will also hear status reports from the Arcata, Redding and Ukiah field office managers. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: November 14, 2003.
Joseph J. Fontana,
Public Affairs Officer.

[FR Doc. 03-28975 Filed 11-19-03; 8:45 am]

BILLING CODE 4310-40-P